FEDERAL COMMUNICATIONS COMMISSION

[FRS 63285]

Radio Broadcasting Services; AM or FM Proposals To Change the Community of License

AGENCY: Federal Communications Commission.

ACTION: Notice.

DATES: The agency must receive comments on or before March 21, 2022.

ADDRESSES: Federal Communications Commission, 45 L Street NE, Washington, DC 20554.

FOR FURTHER INFORMATION CONTACT: Rolanda F. Smith, 202-418-2054.

SUPPLEMENTARY INFORMATION: The following applicants filed AM or FM proposals to change the community of license: PENN-JERSEY EDUCATIONAL RADIO CORPORATION, WPNJ(FM), Fac. ID No. 174811, From EASTON, PA, To HARMONY TOWNSHIP, NJ, File No. 160326; BROADCAST COMMUNICATIONS III, INC., WKHB-FM, Fac. ID No. 36116, From SCOTTDALE, PA, To UNIONTOWN, PA, File No. 162606; ESTRELLA BROADCASTING, LLC, NEW(FM), Fac. ID No. 762492, From SELLS, AZ, To KEARNY, AZ, File No. 159317; RADIOJONES, LLC, WXRS-FM, Fac. ID No. 36212, From BROOKLET, GA, To PORTAL, GA, File No. 143396; and CLARO COMMUNICATIONS, LTD, KUKA(FM), Fac. ID No. 2818, From SAN DIEGO, TX, To DRISCOLL, TX, File No. 145176. The full text of these applications is available electronically via the Media Bureau's Consolidated Data Base System, https://licensing.fcc.gov/prod/cdbs/pubacc/prod/app_sear.htm or Licensing and Management System (LMS), https://apps2int.fcc.gov/dataentry/public/tv/publicAppSearch.html.

Federal Communications Commission.
Thomas Horan,
Chief of Staff, Media Bureau.

[FR Doc. 2022-00820 Filed 1-14-22; 8:45 am]

BILLING CODE 6712-01-P